SMALL BUSINESS ADMINISTRATION

[Declaration of Disaster #3586]

State of Ohio (Amendment #3)

In accordance with a notice received from the Department of Homeland Security—Federal Emergency Management Agency, effective June 21, 2004, the above numbered declaration is hereby amended to establish the incident period for this disaster as beginning on May 18, 2004, and continuing through June 21, 2004.

All other information remains the same, i.e., the deadline for filing applications for physical damage is August 2, 2004, and for economic injury the deadline is March 3, 2005.

(Catalog of Federal Domestic Assistance Program Nos. 59002 and 59008.)
Dated: July 1, 2004.
Herbert L. Mitchell,
Associate Administrator for Disaster Assistance.

[FR Doc. 04-15476 Filed 7-7-04; 8:45 am]

BILLING CODE 8010-01-P